ENVIRONMENTAL PROTECTION AGENCY

[EPA-HQ-OAR-2007-0563; FRL-10002-60-OAR]

Proposed Information Collection Request; Comment Request; National Volatile Organic Compound Emission Standards for Consumer Products (40 CFR Part 59, Subpart C) (Renewal)

AGENCY: Environmental Protection Agency (EPA)

ACTION: Notice.

SUMMARY: The U.S. Environmental Protection Agency (EPA) is planning to submit an information collection request (ICR), “National Volatile Organic Compound Emission Standards for Consumer Products (Renewal),” EPA ICR No. 1764.08, OMB Control No. 2060-0348, to the Office of Management and Budget (OMB) for review and approval in accordance with the Paperwork Reduction Act (PRA). Before doing so, the EPA is soliciting public comments on specific aspects of the proposed information collection as described below. This is a proposed extension of the ICR, which is currently approved through August 31, 2020. An agency may not conduct or sponsor and a person is not required to respond to a collection of information unless it displays a currently valid OMB control number.

DATES: Comments must be submitted on or before January 31, 2020.

ADDRESSES: Submit your comments, referencing Docket ID No. EPA-HQ-OAR-2007-0563 online using https://www.regulations.gov (our preferred method), by email to a-and-r-docket@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information, or other information whose disclosure is restricted by statute.

FOR FURTHER INFORMATION CONTACT: Ms. Kaye Whitfield, U.S. Environmental Protection Agency, Office of Air Quality Planning and Standards, Sector Policies and Programs Division, Minerals and Manufacturing Group (D243-04), Environmental Protection Agency, Research Triangle Park, North Carolina 27711; telephone number: 919-541-2509; fax number: 919-541-4991; email address: whitfield.kaye@epa.gov.

SUPPLEMENTARY INFORMATION: Supporting documents which explain in detail the information that the EPA will be collecting are available in the public docket for this ICR. The docket can be viewed online at https://www.regulations.gov or in person at the EPA Docket Center, WJC West Building, Room 3334, 1301 Constitution Ave. NW, Washington, DC. The telephone number for the Docket Center is 202-566-1744. For additional information about the EPA's public docket, visit https://www.epa.gov/dockets.

Pursuant to section 3506(c)(2)(A) of the PRA, the EPA is soliciting comments and information to enable it to: (1) Evaluate whether the proposed collection of information is necessary for the proper performance of the functions of the Agency, including whether the information will have practical utility; (2) evaluate the accuracy of the Agency's estimate of the burden of the proposed collection of information, including the validity of the methodology and assumptions used; (3) enhance the quality, utility, and clarity of the information to be collected; and (4) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register document to announce the submission of the ICR to OMB and the opportunity to submit additional comments to OMB.

Abstract: The information collection includes initial reports and periodic recordkeeping necessary for the EPA to ensure compliance with Federal standards for volatile organic compounds in consumer products. Respondents are manufacturers, distributors, and importers of consumer products. All information submitted to the EPA for which a claim of confidentiality is made will be safeguarded according to the Agency policies set forth in 40 CFR part 2, subpart B, Confidentiality of Business Information.

Form Numbers: None.

Respondents/affected entities: Manufacturers, distributors, and importers of consumer products.

Respondent's obligation to respond: Responses to the collection are mandatory under 40 CFR part 59, subpart C, National Volatile Organic Compound Emission Standards for Consumer Products.

Estimated number of respondents: 300 (total).

Frequency of response: On occasion.

Total estimated burden: 16,126 hours (per year). Burden is defined at 5 CFR 1320.03(b).

Total estimated cost: $1,765,427 (per year), includes $0 annualized capital or operation and maintenance costs.

Changes in Estimates: There is no change in the burden estimate currently approved by OMB.

Dated: November 22, 2019.
Penny Lassiter,
Director, Sector Policies and Programs Division.

[FR Doc. 2019-25981 Filed 11-29-19; 8:45 am]

BILLING CODE 6560-50-P